DEPARTMENT OF HOMELAND SECURITY

Federal Emergency Management Agency

44 CFR Part 67

[Docket ID FEMA-2008-0020; Internal Agency Docket No. FEMA-B-1060]

Proposed Flood Elevation Determinations

AGENCY: Federal Emergency Management Agency, DHS.

ACTION: Proposed rule; correction.

SUMMARY: On July 2, 2009, FEMA published in the Federal Register a proposed rule that contained an erroneous table. This notice provides corrections to that table, to be used in lieu of the information published at 74 FR 31656. The table provided here represents the flooding sources, location of referenced elevations, effective and modified elevations, and communities affected for Cumberland County, Maine (All Jurisdictions). Specifically, it addresses the following flooding sources: Atlantic Ocean, Bonny Eagle Pond, Casco Bay, Crescent Lake, Dock Brook, Elkins Brook, Fore River, Highland Lake, Jackson Brook, Presumpscot River, and Saco Bay.

DATES: Comments are to be submitted on or before November 8, 2010.

ADDRESSES: You may submit comments, identified by Docket No. FEMA-B-1060, to Kevin C. Long, Acting Chief, Engineering Management Branch, Federal Insurance and Mitigation Administration, Federal Emergency Management Agency, 500 C Street, SW., Washington, DC 20472, (202) 646-2820 or (e-mail) kevin.long@dhs.gov.

FOR FURTHER INFORMATION CONTACT: Kevin C. Long, Acting Chief, Engineering Management Branch, Federal Insurance and Mitigation Administration, Federal Emergency Management Agency, 500 C Street, SW., Washington, DC 20472, (202) 646-2820 or (e-mail) kevin.long@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 74 FR 31656, in the July 2, 2009, issue of the Federal Register, FEMA published a table under the authority of 44 CFR 67.4. The table, entitled “Cumberland County, Maine, and Incorporated Areas” addressed the following flooding sources: Atlantic Ocean, Casco Bay, Crescent Lake, Fore River, Jackson Brook, Presumpscot River, and Saco Bay. That table contained inaccurate information as to the location of referenced elevation, effective and modified elevation in feet, or communities affected for these flooding sources. In addition, it did not include the following flooding sources: Bonny Eagle Pond, Dock Brook, Elkins Brook, and Highland Lake. In this notice, FEMA is publishing a table containing the accurate information, to address these prior errors. The information provided below should be used in lieu of that previously published.

Flooding Source(s) | Location of Referenced Elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities Affected
Cumberland County, Maine (All Jurisdictions)
Atlantic Ocean | Along the shoreline at the intersection of Hannaford Cove Road, Cunner Lane, and Rocky Point Lane | +8 | +12 | Town of Cape Elizabeth.
| Along the shoreline, approximately 1,050 feet east of the intersection of Shore Road and Dyer Pond Road | None | +42
Bonny Eagle Pond | Entire shoreline within the Town of Standish | None | +268 | Town of Standish.
Casco Bay | Along the shoreline, approximately 625 feet south of the intersection of Tondreau Point Road and Birch Run | +8 | +10 | City of Portland, City of South Portland, Town of Cape Elizabeth, Town of Cumberland, Town of Harpswell.
| Along the shoreline, approximately 100 feet east of the intersection of Bluff Road and Cloyster Road | None | +41
Crescent Lake | Along the shoreline at Edwards Road | None | +278 | Town of Casco.
Dock Brook | Just upstream of the confluence with Kezar Pond | None | +384 | Town of Bridgton.
| Approximately 1.1 mile northwest of the intersection of White Mountain Way and Davids View, at the Town of Bridgton corporate limits | None | +384
Elkins Brook | Just upstream of the confluence with Kezar Pond | None | +384 | Town of Bridgton.
| Approximately 1,400 feet northeast of High Street, at the Town of Bridgton corporate limits | None | +384
Fore River | Along the shoreline, at the terminus of Holyoke Wharf | +9 | +10 | City of Portland, City of South Portland.
| Along the shoreline, at the terminus of Portland Street | None | +13
Highland Lake | Entire shoreline within the Town of Windham | None | +192 | Town of Windham.
Jackson Brook | Approximately 1,500 feet south of the intersection of Thomas Drive and County Road | None | +45 | City of Portland.
Presumpscot River | Approximately 1,250 feet west of the intersection of Cardinal Lane and River Road | None | +225 | Town of Standish.
Saco Bay | Along the shoreline, approximately 1,200 feet west of the intersection of Ferry Road and Black Point Road | None | +12 | Town of Scarborough.
| Along the shoreline at the intersection of Black Point Road and Whittier Lane | +8 | +24
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Federal Insurance and Mitigation Administration, Federal Emergency Management Agency, 500 C Street, SW., Washington, DC 20472.
ADDRESSES
City of Portland
Maps are available for inspection at City Hall, 389 Congress Street, Portland, ME 04101.
City of South Portland
Maps are available for inspection at City Hall, 25 Cottage Road, South Portland, ME 04106.
Town of Bridgton
Maps are available for inspection at 3 Chase Street, Bridgton, ME 04009.
Town of Cape Elizabeth
Maps are available for inspection at the Town Hall, 320 Ocean House Road, Cape Elizabeth, ME 04107.
Town of Casco
Maps are available for inspection at the Town Hall, 635 Meadow Road, Casco, ME 04015.
Town of Cumberland
Maps are available for inspection at the Town Hall, 290 Tuttle Road, Cumberland, ME 04021.
Town of Harpswell
Maps are available for inspection at the Town Hall, 263 Mountain Road, Harpswell, ME 04079.
Town of Scarborough
Maps are available for inspection at the Town Hall, 259 U.S. Route 1, Scarborough, ME 04074.
Town of Standish
Maps are available for inspection at the Town Office, 175 Northeast Road, Standish, ME 04084.
Town of Windham
Maps are available for inspection at 8 School Road, Windham, ME 04062.

(Catalog of Federal Domestic Assistance No. 97.022, “Flood Insurance.”)

Dated: July 29, 2010.
Sandra K. Knight,
Deputy Federal Insurance and Mitigation Administrator, Mitigation, Department of Homeland Security, Federal Emergency Management Agency.

[FR Doc. 2010-19550 Filed 8-6-10; 8:45 am]

BILLING CODE 9110-12-P